DEPARTMENT OF ENERGY

Federal Energy Regulatory Commission

Combined Notice of Filings

Take notice that the Commission has received the following Natural Gas Pipeline Rate and Refund Report filings:

Filings Instituting Proceedings

Docket Numbers: RP15-453-000.

Applicants: Transwestern Pipeline Company, LLC.

Description: Compliance filing per 154.203: Penalty Refund Report.

Filed Date: 2/12/15.

Accession Number: 20150212-5083.

Comments Due: 5 p.m. ET 2/24/15.

Docket Numbers: RP15-454-000.

Applicants: Northern Natural Gas Company.

Description: Northern Natural Gas submits report of the penalty and daily delivery variance charge (DDVC) revenues that have been credited to shippers.

Filed Date: 2/12/15.

Accession Number: 20150212-5115.

Comments Due: 5 p.m. ET 2/24/15.

Docket Numbers: RP15-455-000.

Applicants: Sierrita Gas Pipeline LLC.

Description: § 4(d) rate filing per 154.204: Parking and Lending Service Filing to be effective 4/1/2015.

Filed Date: 2/12/15.

Accession Number: 20150212-5118.

Comments Due: 5 p.m. ET 2/24/15.

Docket Numbers: RP15-456-000.

Applicants: Northern Natural Gas Company.

Description: § 4(d) rate filing per 154.204: 20150212 Negotiated Rate to be effective 2/13/2015.

Filed Date: 2/12/15.

Accession Number: 20150212-5169.

Comments Due: 5 p.m. ET 2/24/15.

Docket Numbers: RP15-457-000.

Applicants: Rockies Express Pipeline LLC.

Description: § 4(d) rate filing per 154.204: Neg Rate 2015-02-12 Concord to be effective 2/12/2015.

Filed Date: 2/12/15.

Accession Number: 20150212-5170.

Comments Due: 5 p.m. ET 2/24/15.

Docket Numbers: RP15-458-000.

Applicants: ANR Pipeline Company.

Description: § 4(d) rate filing per 154.601: Integrys Energy FTS-1 Agmts to be effective 2/13/2015.

Filed Date: 2/13/15.

Accession Number: 20150213-5046.

Comments Due: 5 p.m. ET 2/25/15.

Docket Numbers: RP15-459-000.

Applicants: National Fuel Gas Supply Corporation.

Description: § 4(d) rate filing per 154.403(d)(2): Fuel Tracker (04/01/15) to be effective 4/1/2015.

Filed Date: 2/13/15.

Accession Number: 20150213-5267.

Comments Due: 5 p.m. ET 2/25/15.

Docket Numbers: RP15-460-000.

Applicants: Texas Eastern Transmission, LP.

Description: § 4(d) rate filing per 154.204: TETLP Mainline-Lateral Fuel Option to be effective 5/1/2015.

Filed Date: 2/18/15.

Accession Number: 20150218-5008.

Comments Due: 5 p.m. ET 3/2/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2015.
Nathaniel J. Davis, Sr.,
Deputy Secretary.

[FR Doc. 2015-03739 Filed 2-23-15; 8:45 am]

BILLING CODE 6717-01-P